POSTAL REGULATORY COMMISSION

[Docket No. C2024-21; Presiding Officer's Ruling No. 3]

Complaint

AGENCY: Postal Regulatory Commission.

ACTION: Notice.

SUMMARY: This document provides the deadline date to file a notice of intervention and discusses aspects of the procedural schedule and case management procedures.

ADDRESSES: For additional information, Presiding Officer's Ruling No. 3 can be accessed electronically through the Commission's website at https://www.prc.gov.

FOR FURTHER INFORMATION CONTACT: David A. Trissell, General Counsel, at 202-789-6820.

SUPPLEMENTARY INFORMATION:

I. Procedural Schedule

II. Additional Case Management Procedures

III. Ruling

I. Procedural Schedule

Intervention. The deadline to file a notice of intervention pursuant to 39 CFR 3010.142 is February 21, 2025.

Discovery. At the prehearing video conference conducted on February 4, 2025, the parties agreed to a discovery process based upon the date that the Commission issues an Order addressing the Postal Service's pending motion.¹ The parties agreed to propound discovery independently upon each other. Information requests may be transmitted via email, with the Presiding Officer cc'ed, no later than 10 days after the date that the Commission issues an Order resolving the Motion.² Information requests need not be filed on the Commission's public docket. Responses to information requests are due no later than 21 days after submission to the other party. Responses to information requests will be transmitted via email, with the Presiding Officer cc'ed, by the date and time due. Responses to information requests need not be filed on the Commission's public docket. The Presiding Officer may also issue information requests. 39 CFR 3010.106(c)(3). The parties are advised, however, that the burden rests on the parties to request the evidence that they need to support their case.

¹ United States Postal Service Motion for Clarification, February 3, 2025 (Motion).

² 39 CFR 3010.108 governs the computation of time in this proceeding.

Prehearing videoconference. A prehearing videoconference will be held shortly after the deadline for parties to respond to information requests. The Presiding Officer will issue a subsequent Presiding Officer Ruling scheduling the prehearing videoconference with a date certain as that deadline approaches. The videoconference will discuss procedures for the presentation of evidence and legal arguments, the need for any additional information requests, as well as the resolution of any pending discovery-related disputes. Additional prehearing conference may be scheduled as needed.

Presentation of evidence. The issue of whether the hearing will involve the presentation of oral versus written testimony (including whether it may be appropriate to supplement written testimony with oral testimony for certain witnesses on particular issues in dispute) will be addressed more fully at next prehearing videoconference.

Hearing. The date on which the hearing of evidence shall begin will be addressed at the next prehearing teleconference.

II. Additional Case Management Procedures

Good faith effort to confer. A good faith effort to confer with the opposing party requires at least the placing of one telephone call or the transmittal of one email message to the opposing party or its counsel.

Discovery motions. The parties must make a good faith effort to confer with the opposing party to attempt to resolve any discovery dispute before filing any motions related to discovery. The Presiding Officer will not entertain a motion to compel discovery, motion for sanctions, motion for protective order, or any other discovery motions until this good faith effort has been made. If this good faith effort is unsuccessful, the motion shall (1) state that a good faith effort has been made to resolve the dispute, (2) attach each disputed discovery request, answer, and objection (if applicable), (3) provide available dates and times for a hearing to be conducted by videoconference, and (4) concisely state the relief sought, the basis therefor, and the authority relied upon. Any party opposing the motion shall file a response no later than 7 days after the motion is filed. See 39 CFR 3010.160(b). No replies shall be permitted without the express authorization of the Presiding Officer. See 39 CFR 3010.160(c). Failure to file a timely response may result in the motion being deemed unopposed. The Presiding Officer may decide the dispute based on the motion and any response, set a hearing to be conducted by videoconference, or order further briefing.

Extension of time or continuance. If either party seeks an extension of time or continuance, they must make a good faith effort to confer with the opposing party to determine a proposed mutually agreeable date before filing a motion. The motion must be filed before the specific deadline expires and shall state whether the other party opposes the motion. Extensions of time or continuances will only be granted for good cause shown.

Waiver or modification. If either party seeks to waive or modify the terms of any Presiding Officer's Ruling, the party must make a good faith effort to confer with the opposing party to determine a proposed mutually agreeable resolution before filing a motion. The Presiding Officer may waive or modify the terms of his order for good cause shown.

Oral argument. If either party requests to present oral argument before the Presiding Officer relating to any motion or brief, the party shall include “ORAL ARGUMENT REQUESTED” in the caption or title on page 1 of the applicable motion, response, or brief.

III. Ruling

1. The deadline to file a notice of intervention pursuant to 39 CFR 3010.142 is February 21, 2025.

2. The parties and counsel shall follow the procedural schedule and case management procedures established by this Presiding Officer's Ruling.

3. The Secretary shall arrange for the publication of this ruling (or abstract thereof) in the Federal Register.

Erica A. Barker,
Secretary.

[FR Doc. 2025-02468 Filed 2-10-25; 8:45 am]

BILLING CODE 7710-FW-P